DEPARTMENT OF AGRICULTURE

Forest Service

Caribou-Targhee National Forest; Idaho; Caribou Travel Plan Revision—(Located in Bonneville, Bannock, Beark Lake, Bingham, Bonneville, Caribou, Franklin, Oneida, Power Counties in Idaho and Box Elder, Cache and Rich Counties in Utah and Lincoln County in Wyoming.)

AGENCY: Forest Service, USDA.

ACTION: Notice of intent to prepare an environmental impact statement.

SUMMARY: The Forest Service will prepare an Environmental Impact Statement (EIS) to document the analysis and disclose the environmental impacts of the proposed action and alternatives to revise the Caribou Travel Plan for the Caribou portion of the Caribou-Targhee National Forest. The travel plan analysis will address both summer and winter travel; or snow-free and snow seasons. The Travel Plan Revision will tier to the FEIS for the 2003 Caribou Revised Forest Plan. The Caribou portion of the Caribou-Targhee National Forest is located in Southeast Idaho and portions of Western Wyoming and Northern Utah.

DATES: To be most useful to the analysis, comments concerning the proposed action should be received in writing 30 days from the publication of this notice. Comments will be accepted after that date. The draft environmental impact statement is expected in September of 2004 and the final environmental impact statement is expected February of 2005. If you would like to be included on our mailing list concerning this analysis, please contact Cynthia Hobach at 208-524-7500 or chobach@fs.fed.us.

ADDRESSES: Please send written comments to Caribou Travel Plan Revision Team, Caribou-Targhee National Forest, 1405 Hollipark Drive, Idaho Falls, Idaho 83401. Written comments may also be electronically submitted to dtiller@fs.fed.us.

FOR FURTHER INFORMATION CONTACT: Debrah Tiller, Interdisciplinary Team Leader, Caribou-Targhee National Forest, 1405 Hollipark Drive, Idaho Falls, Idaho 83401 or visit our Web site at www.fs.fed.us/r4/caribou-targhee, under the Travel Plan Revision headline.

SUPPLEMENTARY INFORMATION: The proposed action, maps and other supporting documents can be viewed at http://www.fs.fed.us/r4/caribou-targhee under the Caribou travel plan revision heading. Hard copy documents are available at local forest offices. We are coordinating efforts with Tribal governments, Bureau of Land Management, U.S. Fish and Wildlife Service, Idaho Fish and Game, Idaho Department of Parks and Recreation and local County Commissioners. The following public meetings have been scheduled to aid people in understanding the proposed action and the analysis process, all meetings will be held from 6 p.m. to 8 p.m.:

March 18th in Madlad, ID at the Westside Ranger District, 195 South, 300 East

March 25th in Montpelier, ID at the Allred Building, Bear Lake County Fairgrounds, 21620 US Highway 30

March 31st in Preston, ID at the Robinson Building, Franklin County Fairgrounds, 185 West, 2nd North

April 1st, in Pocatello ID at the Westside Ranger District, 4350 Cliffs Drive

April 7th in Soda Springs, ID at the Tigert Middle School, 250 East, 2nd South

April 8th in Afton, WY at the City of Afton Building, 416 South Washington

April 15th in Idaho Falls, ID at the Caribou-Targhee Forest Headquarters, 1405 Hollipark Drive

April 21st in Fort Hall, ID at the Tribal Business Center, 306 Pima Drive

Purpose and Need for Action

The Caribou Travel Plan does not comply with programmatic direction set by the 2003 Caribou Revised Forest Plan. The travel does not comply with plan direction to manage most snow-free motorized travel on designated routes. The Revised Forest Plan also prescribes a limit on open motorized route densities during the snow-free season for many areas of the forest. The current travel plan exceeds these limits in some areas of the forest.

Proposed Action

The proposed action will meet plan direction by designating motorized routes in areas that were managed as open to cross-country motorized travel during the snow-free season. The proposed action will also address snow season motorized access through winter range prescriptions.

Possible Alternatives

Alternatives may include increasing or decreasing open motorized routes in various prescription areas. Alternatives that would not meet the prescribed open motorized route densities would require amending the Revised Forest Plan. Alternatives to the proposed action may include additional areas managed for a non-motorized experience during the snow season.

Lead and Cooperating Agencies

The USDA Forest Service.

Responsible Official

Jerry B. Reese, Caribou-Targhee Forest Supervisor, 1405 Hollipark Drive, Idaho Falls, ID 83401.

Nature of Decision To Be Made

Travel planning is an allocation process based on resource and social concerns. The framework for the decision is set by the programmatic direction outlined in the 2003 Caribou Revised Forest Plan: Most cross-country motorized travel is restricted to designated routes; snow-free designated motorized routes will adhere to the prescribed open motorized route densities; critical winter range areas will have designated motorized routes during the snow season and additional non-motorized areas for the snow season will be considered.

Scoping Process

Open houses will be held in area communities to discuss the proposed action and possible alternatives for revising the Caribou travel plan. Our electronic website contains more specific information, and public comment can be received electronically. See e-mail addresses, website addresses and public meeting information listed above.

Comment Requested

This notice of intent initiates the scoping process which guides the development of the environmental impact statement. Additional public comments will be accepted after publication of the DEIS anticipated by September 2004. The Final EIS and Records of Decision for the Caribou Travel Plan Revision are expected in February of 2005.

Early Notice of Importance of Public Participation in Subsequent Environmental Review: A draft environmental impact statement will be prepared for comment. The comment period on the draft environment impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 5129,553 (1978). Also environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F.Supp. 1334, 1338 (E.D. Wis. 1980). because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available to public inspection.

(Authority: 40 CFR 1501.7 1508.22; Forest Service Handbook 1909.15, Section 21)

Dated: March 4, 2004.
Jerry B. Reese,
Forest Supervisor, Caribou-Targhee National Forest.

[FR Doc. 04-5469 Filed 3-10-04; 8:45 am]

BILLING CODE 3410-11-M